DEPARTMENT OF HEALTH AND HUMAN SERVICES

Centers for Disease Control and Prevention

[Program Announcement 02099]

Expansion of HIV/AIDS/Tuberculosis Control and HIV/AIDS Care Activities in the Republic of Côte d'Ivoire; Notice of Award of Funds

A. Purpose

The Centers for Disease Control and Prevention (CDC) announces the availability of fiscal year (FY) 2002 funds for a cooperative agreement with the Ministry of Health (MOH) of Côte d'Ivoire for the expansion of HIV/AIDS and Tuberculosis Control activities and HIV/AIDS Care activities.

The U.S. government seeks to reduce the impact of HIV/AIDS in specific countries within sub-Saharan Africa, Asia, and the Americas through its Leadership and Investment in Fighting an Epidemic (LIFE) initiative. Through this LIFE program, CDC has initiated its Global AIDS Program (GAP) to strengthen capacity and expand activities in the areas of

(1) HIV primary prevention;

(2) HIV care, support, and treatment; and

(3) Capacity and infrastructure development, especially for surveillance.

Targeted countries represent those with the most severe epidemics and the highest number of new infections. They also represent countries where the potential for impact is greatest and where U.S. government agencies are already active. Côte d'Ivoire is one of these targeted countries. As a key partner in the U.S. government's LIFE Initiative, CDC is working in a collaborative manner with national governments and other agencies to develop programs of assistance to address the HIV/AIDS epidemic in LIFE initiative countries. In particular, CDC's mission in Côte d'Ivoire is to work with Ivorian and international partners in discovering and applying effective interventions to prevent HIV infection and associated illness and death from AIDS.

Côte d'Ivoire is the West African country most heavily affected by the HIV/AIDS epidemic. UNAIDS has estimated that about one million persons in Côte d'Ivoire were living with HIV/AIDS in 2000 with an overall ten percent (10 percent) HIV prevalence in the adult population, although, HIV prevalence differs in sub-populations. In 2000, from antenatal sentinel serosurveillance, HIV prevalence was nine point five percent (9.5 percent) in pregnant women. The prevalence of HIV infection remains high in TB patients at about forty-five percent (45 percent). These statistics suggest the need for the expansion and improvement of a range of surveillance, care, prevention, and control activities and services. This agreement will assist the Tuberculosis Control Program of the Ministry of Health in screening more patients in order to better control the spread of tuberculosis in the general population, and in particular in HIV infected persons. At the same time, improving the national surveillance system will provide essential information for focusing prevention activities, allocating resources, and monitoring effectiveness of programs.

B. Eligible Applicants

Assistance will be provided only to the MOH of Côte d'Ivoire. No other applications are solicited. The MOH is the only appropriate and qualified organization to conduct a specific set of activities supportive of the CDC Global AIDS Program's technical assistance to Côte d'Ivoire for the following reasons:

1. The MOH is uniquely positioned, in terms of legal authority, ability, and credibility among Ivorian citizens, to collect crucial data on HIV/AIDS as well as to provide care to HIV infected patients.

2. The MOH in Côte d'Ivoire is mandated by the Ivorian government to coordinate activities necessary for the control of epidemics, including HIV/AIDS and Tuberculosis.

3. The MOH already has an established network of health care facilities throughout Côte d'Ivoire. They include tuberculosis treatment centers, maternal-child health clinics, and HIV/AIDS care sites. These facilities are accessible and provide health information and care for patients with HIV/AIDS and Tuberculosis, enabling the Ministry to become immediately engaged in the activities listed in this announcement.

4. The MOH has trained physicians, nurses, and social workers already working in their network of health care facilities around the country who can carry out the activities listed in this announcement.

Note: Title 2 of the United States Code section 1611 states that an organization described in section 501 (c)(4) of the International Revenue Code that engages in lobbying activities is not eligible to receive Federal funds constituting an award, grant, or loan.

C. Availability of Funds

Approximately $700,000 is available FY 2002 to fund this award.

It is expected that the award will begin on or about September 30, 2002, and will be made for a 12-month budget period within a project period of three (3) years. Annual funding estimates may change. Continuation awards within an approved project period will be made on the basis of satisfactory progress as evidenced by required reports and the availability of funds.

Use of Funds

Funds received from this announcement will not be used for the purchase of antiretroviral drugs for treatment of established HIV infection (with the exception of nevirapine in the Prevention of Mother-To-Child Transmission (PMTCT) cases and with prior written approval), occupational exposures, and non-occupational exposures and will not be used for the purchase of machines and reagents to conduct the necessary laboratory monitoring for patient care.

Applicants may contract with other organizations under these cooperative agreements, however, applicants must perform a substantial portion of the activities (including program management and operations and delivery of prevention services for which funds are requested).

The costs that are generally allowable in grants to domestic organizations are likewise allowable to foreign institutions and international organizations.

All requests for funds, including the budget contained in the application, shall be stated in U.S. dollars. Once an award is made, the Department of Health and Human Services (DHHS) will not compensate foreign grantees for currency exchange fluctuations through the issuance of supplemental awards.

No funds appropriated under this Act shall be used to carry out any program of distributing sterile needles or syringes for the hypodermic injection of any illegal drug.

D. Where To Obtain Additional Information

To obtain business management technical assistance, contact: Cynthia Collins, Grants Management Specialist, Grants Management Branch, Procurement and Grants Office, Centers for Disease Control and Prevention, 1600 Clifton Road, Mailstop E-15, Atlanta, GA 30333. Telephone number: (770) 488-2757. E-Mail: coc9@cdc.gov.

For program technical assistance, contact: Karen Ryder, MPH, CDC/HIV, 2010 Abidjan Place, Dulles, VA 20189-2010. Telephone: (404) 639-0911. E-Mail: kkr1@cdc.gov.

Dated: October 9, 2002.
Edward J. Schultz,
Acting Director, Procurement and Grants Office, Centers for Disease Control and Prevention.

[FR Doc. 02-26525 Filed 10-17-02; 8:45 am]

BILLING CODE 4163-18-P